DEPARTMENT OF THE INTERIOR

Bureau of Ocean Energy Management

[MMAA 104000]

Outer Continental Shelf (OCS), Gulf of Mexico (GOM), Oil and Gas Lease Sales, Central Planning Area (CPA) Lease Sales 235, 241, and 247

AGENCY: Bureau of Ocean Energy Management (BOEM), Interior.

ACTION: Notice of Availability (NOA) of the Final Supplemental Environmental Impact Statement (EIS).

Authority: This NOA is published pursuant to the regulations (40 CFR part 1503) implementing the provisions of the National Environmental Policy Act (NEPA) of 1969, as amended (42 U.S.C. 4321 et seq.).

SUMMARY: BOEM has prepared a Final Supplemental EIS for proposed OCS oil and gas Lease Sales 235, 241, and 247, which are tentatively scheduled to be held in March 2015, 2016, and 2017, respectively, in the Gulf of Mexico CPA offshore the States of Louisiana, Mississippi, and Alabama. This Final Supplemental EIS updates the environmental and socioeconomic analyses for proposed CPA Lease Sales 235, 241, and 247 evaluated in the Gulf of Mexico OCS Oil and Gas Lease Sales: 2012-2017; Western Planning Area Lease Sales 229, 233, 238, 246, and 248; Central Planning Area Lease Sales 227, 231, 235, 241, and 247, Final Environmental Impact Statement (OCS EIS/EA BOEM 2012-019) (2012-2017 WPA/CPA Multisale EIS) and in the Gulf of Mexico OCS Oil and Gas Lease Sales: 2013-2014; Western Planning Area Lease Sale 233; Central Planning Area Lease Sale 231, Final Supplemental Environmental Impact Statement (OCS EIS/EA BOEM 2013-0118) (WPA 233/CPA 231 Supplemental EIS).

SUPPLEMENTARY INFORMATION: BOEM developed this Final Supplemental EIS for proposed CPA Lease Sales 235, 241, and 247 to consider new information made available since completion of the 2012-2017 WPA/CPA Multisale EIS and WPA 233/CPA 231 Supplemental EIS, and to consider new information on the Deepwater Horizon incident. This Final Supplemental EIS updates the baseline conditions and potential environmental effects of oil and natural gas leasing, exploration, development, and production in the CPA. BOEM conducted an extensive search for new information, reviewing scientific journals and available scientific data and information from academic institutions and Federal, State, and local agencies; and interviewing personnel from academic institutions and Federal, State, and local agencies. BOEM has examined the potential impacts of routine activities and accidental events and the proposed lease sales' incremental contribution to the cumulative impacts on environmental and socioeconomic resources. The oil and gas resource estimates and scenario information for this Final Supplemental EIS are presented as a range that would encompass the resources and activities estimated for a proposed CPA lease sale.

Final Supplemental EIS Availability: BOEM has printed and will distribute a limited number of paper copies. In keeping with the Department of the Interior's mission of the protection of natural resources and to limit costs while ensuring availability of the document to the public, BOEM will primarily distribute digital copies of the Final Supplemental EIS on compact discs. However, if you require a paper copy, BOEM will provide one upon request if copies are still available.

You may obtain a copy of the Final Supplemental EIS from the Bureau of Ocean Energy Management, Gulf of Mexico OCS Region, Public Information Office (GM 335A), 1201 Elmwood Park Boulevard, Room 250, New Orleans, Louisiana 70123-2394 (1-800-200-GULF).

You may also download or view the Final Supplemental EIS on BOEM's Internet Web site at http://www.boem.gov/nepaprocess/.

Several libraries along the Gulf Coast have been sent copies of the Final Supplemental EIS. To find out which libraries have copies of the Final Supplemental EIS for review, you may contact BOEM's Public Information Office or visit BOEM's Internet Web site at http://www.boem.gov/nepaprocess/.

FOR FURTHER INFORMATION CONTACT: For more information on the Final Supplemental EIS, you may contact Mr. Gary D. Goeke, Bureau of Ocean Energy Management, Gulf of Mexico OCS Region, Office of Environment (GM 623E), 1201 Elmwood Park Boulevard, New Orleans, Louisiana 70123-2394 or by email at cpa235@boem.gov. You may also contact Mr. Goeke by telephone at 504-736-3233.

Dated: August 20, 2014.
Walter D. Cruickshank,
Acting Director, Bureau of Ocean Energy Management.

[FR Doc. 2014-21993 Filed 9-18-14; 8:45 am]

BILLING CODE 4310-MR-P